DEPARTMENT OF ENERGY

Federal Energy Regulatory Commission

Combined Notice of Filings

Take notice that the Commission has received the following Natural Gas Pipeline Rate and Refund Report filings:

Filings Instituting Proceedings

Docket Numbers: RP16-1086-000.

Applicants: Questar Overthrust Pipeline Company.

Description: Annual Fuel Reimbursement Report of Questar Overthrust Pipeline Company.

Filed Date: 7/11/16.

Accession Number: 20160711-5096.

Comments Due: 5 p.m. ET 7/25/16.

Docket Numbers: RP16-1087-000.

Applicants: High Island Offshore System, L.L.C.

Description: § 4(d) Rate Filing: Revise NGL Bank BTU Calculation to be effective 12/1/2015.

Filed Date: 7/11/16.

Accession Number: 20160711-5169.

Comments Due: 5 p.m. ET 7/25/16.

Docket Numbers: RP16-1088-000.

Applicants: Trailblazer Pipeline Company LLC.

Description: § 4(d) Rate Filing: PALS Service to be effective 9/1/2016.

Filed Date: 7/12/16.

Accession Number: 20160712-5000.

Comments Due: 5 p.m. ET 7/25/16.

Docket Numbers: RP16-1089-000.

Applicants: Tennessee Gas Pipeline Company, L.L.C.

Description: § 4(d) Rate Filing: Volume No. 2—Neg. Rate Agmts Enerplus Resources SP319104 and SP319105 to be effective 8/1/2016.

Filed Date: 7/12/16.

Accession Number: 20160712-5029.

Comments Due: 5 p.m. ET 7/25/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-329-001.

Applicants: Transwestern Pipeline Company, LLC.

Description: Compliance filing RP16-329 Compliance Filing to be effective 7/1/2016.

Filed Date: 7/12/16.

Accession Number: 20160712-5019.

Comments Due: 5 p.m. ET 7/25/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2016.
Nathaniel J. Davis, Sr.,
Deputy Secretary.

[FR Doc. 2016-16880 Filed 7-15-16; 8:45 am]

BILLING CODE 6717-01-P